DEPARTMENT OF HEALTH AND HUMAN SERVICES

Centers for Medicare & Medicaid Services

[CMS-7032-CN]

Health Insurance Marketplace, Medicare, Medicaid, and Children's Health Insurance Programs; Meeting of the Advisory Panel on Outreach and Education (APOE), May 22, 2014; Corrections

AGENCY: Centers for Medicare & Medicaid Services (CMS), HHS.

ACTION: Correction notice.

SUMMARY: This notice corrects an error in the notice of meeting that published in the May 2, 2014 Federal Register titled “Health Insurance Marketplace, Medicare, Medicaid, and Children's Health Insurance Programs; Meeting of the Advisory Panel on Outreach and Education (APOE), May 22, 2014.”

FOR FURTHER INFORMATION CONTACT: Kirsten Knutson, (410) 786-5886.

SUPPLEMENTARY INFORMATION:

I. Background

In FR Doc. 2014- 09989, which published in the May 2, 2014 Federal Register (79 FR 25133) titled “Health Insurance Marketplace, Medicare, Medicaid, and Children's Health Insurance Programs; Meeting of the Advisory Panel on Outreach and Education (APOE), May 22, 2014”, there was an error that is identified and corrected in the Correction of Errors section of this correction notice.

II. Summary of Errors

On page 25134, we made an error in providing information regarding the public's offsite participation in the May 22, 2014 APOE meeting.

III. Correction of Errors

In FR Doc. 2014-09989 of May 2, 2014 (79 FR 25133), make the following correction:

1. On page 25134, first column, second paragraph (ADDRESSES section), line 21, the phrase “engage virtually in the open meetings, this APOE meeting will be available to view via live Web streaming by visiting the link www.cms.gov/live during the designated time of the meeting.” is corrected to read “engage in the open meeting, this APOE meeting will be available for listening only via a conference call. To listen to the meeting, the public may dial 1-877-267-1577, then follow the instructions on the phone and enter the following meeting ID number, 996 925 940, followed by the pound sign.”

Authority: (Catalog of Federal Domestic Assistance Program No. 93.773, Medicare—Hospital Insurance, Program No. 93.774, Medicare—Supplementary Medical Insurance Program, and Program No. 93.714, Medical Assistance Program)

Dated: May 13, 2014.
Kathleen Cantwell,
Director, Office of Strategic Operations and Regulatory Affairs.

[FR Doc. 2014-11380 Filed 5-15-14; 8:45 am]

BILLING CODE 4120-01-P